INTERNATIONAL TRADE COMMISSION

[Investigation Nos. 701-TA-464 and 731-TA-1160 (Final)]

Prestressed Concrete Steel Wire Strand From China

AGENCY: United States International Trade Commission.

ACTION: Revised schedule for the subject investigations.

DATES: Effective Date: February 16, 2010.

FOR FURTHER INFORMATION CONTACT: Mary Messer (202-205-3193), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for these investigations may be viewed on the Commission's electronic docket (EDIS) at http://edis.usitc.gov.

SUPPLEMENTARY INFORMATION: Effective December 23, 2009, the Commission established a schedule for the conduct of the final phase of the subject investigations (75 FR 4104, January 26, 2010). On January 28, 2010, the Commission was notified by the petitioners of a substantial conflict with respect to their ability to participate in the hearing. Accordingly, at the request of the petitioners and absent any argument to the contrary, the Commission is revising its schedule.

The Commission's new schedule for the investigations is as follows: requests to appear at the hearing must be filed with the Secretary to the Commission not later than April 30, 2010; the prehearing conference will be held at the U.S. International Trade Commission Building at 9:30 a.m. on May 4, 2010; the prehearing staff report will be placed in the nonpublic record on April 22, 2010; the deadline for filing prehearing briefs is April 29; the hearing will be held at the U.S. International Trade Commission Building at 9:30 a.m. on May 6, 2010; the deadline for filing posthearing briefs is May 14, 2010; the Commission will make its final release of information on June 2, 2010; and final party comments are due on June 4, 2010.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: February 17, 2010.
By order of the Commission.
Marilyn R. Abbott,
Secretary to the Commission.

[FR Doc. 2010-3425 Filed 2-22-10; 8:45 am]

BILLING CODE P